DEPARTMENT OF JUSTICE

Notice of Lodging of Proposed Consent Decrees Under the Clean Water Act

On December 23, 2015, the Department of Justice lodged two proposed consent decrees with the United States District Court for the District of Puerto Rico in the lawsuit entitled United States v. The Municipality of San Juan, the Puerto Rico Department of Natural and Environmental Resources, the Puerto Rico Department of Transportation and Public Works, the Puerto Rico Highway and Transportation Authority, and the Commonwealth of Puerto Rico, Civil Action No. 3:14-cv-1476-CCC.

One proposed consent decree resolves the United States' claims against the Puerto Rico Department of Natural and Environmental Resources (“DNER”) under the Clean Water Act (“CWA”), 33 U.S.C. 1251-1387, concerning CWA violations at three of its storm water pump stations located within San Juan. The proposed consent decree requires DNER to apply for a permit and implement a Storm Water Management Program, to undertake certain capital and operation improvements to its pump stations, and to provide financial support for investigations and work performed in the pump station service areas. The proposed consent decree resolves only the violations alleged against DNER in the Complaint through the date of lodging of the consent decree and does not resolve claims against the other Defendants. Due to financial challenges currently facing the Commonwealth, no civil penalties for past violations will be recovered under this consent decree.

The second proposed consent decree resolves the United States' claims against the Puerto Rico Department of Transportation and Public Works (“DTPW”) and the Puerto Rico Highways and Transportation Authority (“HTA”) under the CWA, concerning CWA violations throughout their storm sewer systems located within San Juan. The proposed consent decree provides for injunctive relief to be implemented in a two-stage, multi-phased approach including the study and repair of their MS4s, in addition to other infrastructure and operational improvements. The proposed consent decree resolves only the violations alleged against DTPW and HTA in the Complaint through the date of lodging of the consent decree and does not resolve claims against the other Defendants. Due to financial challenges currently facing the Commonwealth, no civil penalties for past violations will be recovered under this consent decree.

The publication of this notice opens a period for public comment on the proposed consent decrees. Comments should be addressed to the Assistant Attorney General, Environment and Natural Resources Division and should refer to United States v. The Municipality of San Juan, D.J. Ref. No. 90-5-1-1-09551. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611

During the public comment period, the proposed consent decrees may be examined and downloaded at this Justice Department Web site: http://www.justice.gov/enrd/consent-decrees. We will provide a paper copy of the proposed consent decrees upon written request and payment of reproduction costs. Please mail your request and payment to: Consent Decree Library, U.S. DOJ—ENRD, P.O. Box 7611, Washington, DC 20044-7611.

Please enclose a check or money order for $10.25 (25 cents per page reproduction cost) for a copy of the DTPW/HTA proposed consent decree and $9.25 for a copy of the DNER proposed consent decree (copies of the appendices attached to the consent decrees are not included in this amount) payable to the United States Treasury.

Maureen Katz,
Assistant Section Chief, Environmental Enforcement Section, Environment and Natural Resources Division.

BILLING CODE 4410-15-P

Appendix

[FR Doc. 2015-32908 Filed 12-30-15; 8:45 am]

BILLING CODE 4410-15-C